ENVIRONMENTAL PROTECTION AGENCY

[EPA-R07-SFUND-2020-0494; FRL-10015-18-Region 7]

Notice of Proposed Administrative Settlement Agreement and Covenant Not To Sue

AGENCY: Environmental Protection Agency (EPA).

ACTION: Notice; request for public comment.

SUMMARY: Notice is hereby given by the U.S. Environmental Protection Agency (EPA), Region 7, of a proposed prospective purchaser agreement, embodied in an Administrative Settlement Agreement and Covenant Not to Sue, with the Herbert Hoover Boys and Girls Club of St. Louis, Inc. This agreement pertains to a portion of the Carter Carburetor Superfund Site located at approximately 2840 N Spring Ave. in the City of St. Louis, Missouri.

DATES: Comments must be received on or before October 29, 2020.

ADDRESSES: The proposed settlement agreement is available for public inspection at EPA Region 7's office. A copy of the proposed agreement may also be obtained from Catherine Chiccine, EPA Region 7, 11201 Renner Boulevard, Lenexa, Kansas 66219, telephone number (913) 551-7917. You may send comments, identified by Docket ID No. EPA-R07-SFUND-2020-0494, to https://www.regulations.gov. Follow the online instructions for submitting comments. You may also send comments, identified by `Carter Careburetor Superfund Site Public Comment,' to Ms. Chiccine at the above address or electronically to chiccine.catherine@epa.gov.

Instructions: All submissions received must include the Docket ID No. for this proposed settlement. Comments received will be posted without change to https://www.regulations.gov/, including any personal information provided. For detailed instructions on sending comments and additional information on the public notice process, see the “Written Comments” heading of the SUPPLEMENTARY INFORMATION section of this document.

FOR FURTHER INFORMATION CONTACT: Catherine Chiccine, Assistant Regional Counsel, Office of Regional Counsel, Environmental Protection Agency Region 7, 11201 Renner Boulevard, Lenexa, Kansas 66219; telephone number (913) 551-7917; email address chiccine.catherine@epa.gov.

SUPPLEMENTARY INFORMATION:

Written Comments

Submit your comments, identified by Docket ID No. EPA-R07- SFUND-2020-0494 at https://www.regulations.gov. Once submitted, comments cannot be edited or removed from Regulations.gov. The EPA may publish any comment received to its public docket. Do not submit electronically any information you consider to be Confidential Business Information (CBI) or other information whose disclosure is restricted by statute. If CBI exists, please contact Ms. Chiccine. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

Notice is hereby given by the U.S. Environmental Protection Agency, Region 7, of a proposed prospective purchaser agreement, embodied in an Administrative Settlement Agreement and Covenant Not to Sue, with Herbert Hoover Boys and Girls Club of St. Louis, Inc. regarding property located at approximately 2840 N Spring Ave., more specifically bounded by North Spring Avenue, Dodier Street, North Grand Boulevard, and St. Louis Avenue in the City of St. Louis, Missouri. Herbert Hoover Boys and Girls Club of St. Louis, Inc. seeks to acquire the property for reuse and redevelopment. This project will result in a formerly contaminated property being restored to beneficial use by a community stakeholder.

The settlement includes a covenant by EPA not to sue or take administrative action against the Herbert Hoover Boys and Girls Club of St. Louis, Inc., pursuant to sections 106 and 107(a) of CERCLA. For thirty (30) days following the date of publication of this document, EPA will receive written comments relating to the settlement. EPA will consider all comments received and may modify or withdraw its consent to the settlement agreement if comments received disclose facts or considerations that indicate that the proposed settlement is inappropriate, improper, or inadequate. EPA's response to any comments received will be available for public inspection at EPA Region 7, 11201 Renner Boulevard, Lenexa, Kansas 66219.

Dated: September 23, 2020.
Mary Peterson,
Director, Superfund Division, EPA Region 7.

[FR Doc. 2020-21398 Filed 9-28-20; 8:45 am]

BILLING CODE 6560-50-P